DEPARTMENT OF ENERGY

Federal Energy Regulatory Commission

[Project Nos. 2618-030; 2618-031]

Woodland Pulp LLC; Notice Dismissing Request for Stay as Moot

On March 22, 2017, Woodland Pulp LLC (Woodland Pulp), licensee for the West Branch Storage Project No. 2618, filed with the Federal Energy Regulatory Commission (Commission) a Fishway Operation and Maintenance Plan (Operation Plan) and a Fishway Evaluation Plan (Evaluation Plan) under Articles 409 and 410 of the project license, respectively.¹ On April 26, 2019, Commission staff denied Woodland Pulp's Operation Plan and modified and approved its Evaluation Plan.² The April 26, 2019 Order requires Woodland Pulp to remove the hydraulic blockage at the West Grand Dam fishway within 45 days from the date of issuance to allow fish passage for all migratory species.

¹ Woodland Pulp LLC, 154 FERC ¶ 62,175 (2016) (Order Issuing New License).

² Woodland Pulp LLC, 167 FERC ¶ 62,065 (2019).

On May 24, 2019, the Maine Department of Inland Fisheries and Wildlife, Maine Department of Marine Resources, and the Maine Department of Environmental Protection filed a motion for stay of the April 26, 2019 Order. The motion requests a 60-day stay of the April 26, 2019 Order to allow additional time for the state agencies, the U.S. Fish and Wildlife Service, the National Marine Fisheries Service, and the Passamaquoddy Tribe to consult regarding fish passage at West Grand Dam. On June 5, 2019, Woodland Pulp notified the Commission that it had removed the hydraulic blockage at the West Grand Dam. Accordingly, the relief sought by the Maine agencies is rendered moot and the request for stay is dismissed.

This notice constitutes final agency action. Requests for rehearing of this dismissal must be filed within 30 days, pursuant to section 313(a) of the Federal Power Act and section 385.713 of the Commission's regulations, 18 CFR 385.713 (2018).

Dated: June 17, 2019.
Nathaniel J. Davis, Sr.,
Deputy Secretary.

[FR Doc. 2019-13319 Filed 6-21-19; 8:45 am]

BILLING CODE 6717-01-P